ENVIRONMENTAL PROTECTION AGENCY

[EPA-R07-SFUND-2011-0339 FRL-9302-2]

Proposed CERCLA Administrative “Cost Recovery” Settlement; the Doe Run Resources Corporation

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Big River Mine Tailings Superfund Site, St. Francois Mining Area, St. Francois County, Missouri with the following settling party: The Doe Run Resources Corporation. The settlement requires the settling party to pay $208,990, to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at: Desloge Public Library, 209 North Desloge Drive, Desloge, Missouri 63601; and St. Francois County Health Department, 1025 West Main, Park Hills, Missouri 63601; and Environmental Protection Agency, Region VII Docket Room, 901 North Fifth Street, Kansas City, KS 66101.

DATES: Comments must be submitted on or before June 6, 2011.

ADDRESSES: The proposed settlement is available for public inspection at the Environmental Protection Agency, Region VII Docket Room, 901 North Fifth Street, Kansas City, KS 66101. A copy of the proposed settlement may be obtained from Kathy Robinson, Regional Hearing Clerk, Environmental Protection Agency, Region VII, 901 North Fifth Street, Kansas City, KS 66101, 913-551-7567. Comments should reference the Big River Mine Tailings Superfund Site, St. Francois County, Missouri, and EPA Docket No. CERCLA-07-2011-0003, and should be addressed to Kathy Robinson, Regional Hearing Clerk, Environmental Protection Agency, Region VII, 901 North Fifth Street, Kansas City, KS 66101.

FOR FURTHER INFORMATION CONTACT: Jason Gunter, Remedial Project Manager, Superfund Division, Environmental Protection Agency, Region VII, 901 North Fifth Street, Kansas City, KS 66101, gunter.jason@epa.gov or at 913-551-7358.

Dated: April 21, 2011.
Cecilia Tapia,
Director, Superfund Division, Region 7.

[FR Doc. 2011-10997 Filed 5-5-11; 8:45 am]

BILLING CODE 6560-50-P